FEDERAL COMMUNICATIONS COMMISSION

[FR ID 142416]

Federal Advisory Committee, Communications Equity and Diversity Council

AGENCY: Federal Communications Commission.

ACTION: Notice of renewal of the charter for the Communications Equity and Diversity Council.

SUMMARY: In accordance with the Federal Advisory Committee Act (FACA), the Federal Communications Commission (FCC or Commission) announces its intent to renew the Communications Equity and Diversity Council (CEDC). The renewal will be effective for a two-year period beginning June 22, 2023, following consultation with the Committee Management Secretariat, General Services Administration. The CEDC is a federal advisory committee under the Federal Advisory Committee Act.

DATES: May 25, 2023.

ADDRESSES: Federal Communications Commission, 45 L Street NE, Washington, DC 20554.

FOR FURTHER INFORMATION CONTACT: Jamila Bess Johnson, Designated Federal Officer, Federal Communications Commission, Media Bureau, (202) 418-2608 or email: Jamila.Bess-Johnson@fcc.gov.

SUPPLEMENTARY INFORMATION: After consultation with the General Services Administration, the Commission intends to renew the charter of the CEDC for two years, commencing on June 22, 2023.

The mission of the Committee is to make recommendations to the Commission on advancing equity in the provision of and access to digital communication services and products for all people of the United States, without discrimination on the basis of race, color, religion, national origin, sex, or disability. It shall provide recommendations to the Commission on how to empower people of color and others who have been historically underserved, including persons who live in rural areas, and persons otherwise adversely affected by persistent poverty or inequality, to access, leverage, and benefit from the wide range of opportunities made possible by technology, communication services and next-generation networks.

Advisory Committee

The Committee will be organized under, and will operate in accordance with, the provisions of the FACA (5 U.S.C. App. 10). The Committee will be solely advisory in nature. Consistent with FACA and its requirements, each meeting of the Committee will be open to the public unless otherwise noticed. A notice of each meeting will be published in the Federal Register at least fifteen (15) days in advance of the meeting. Records will be maintained of each meeting and made available for public inspection. All activities of the Committee will be conducted in an open, transparent, and accessible manner. The Committee shall terminate two (2) years from the filing date of its charter, or earlier upon the completion of its work as determined by the Chairwoman of the FCC, unless its charter is renewed prior to the termination date.

During this term, it is anticipated that the Committee will meet approximately three (3) times a year. The first meeting date and agenda topics will be described in a Public Notice issued and published in the Federal Register at least fifteen (15) days prior to the first meeting date. In addition, as needed, working groups or subcommittees (ad hoc or steering) will be established to facilitate the Committee's work between meetings of the full Committee. Meetings of the Committee will be fully accessible to individuals with disabilities.

Federal Communications Commission.
Marlene Dortch,
Secretary, Office of the Secretary.

[FR Doc. 2023-11106 Filed 5-24-23; 8:45 am]

BILLING CODE 6712-01-P